DEPARTMENT OF DEFENSE

Office of the Secretary

[Docket ID: DoD-2015-OS-0096]

U.S. Court of Appeals for the Armed Forces Proposed Rules Changes

ACTION: Notice of proposed change to the Rules of Practice and Procedure of the United States Court of Appeals for the Armed Forces.

SUMMARY: This notice announces the following proposed changes to Rule 37(a) of the Rules of Practice and Procedure, United States Court of Appeals for the Armed Forces.

DATES: Comments on the proposed change must be received by November 13, 2015.

ADDRESSES: You may submit comments, identified by docket number and title by any of the following methods:

• Federal eRulemaking Portal: http://www.regulations.gov.

• Mail: Department of Defense, Office of the Deputy Chief Management Officer, Directorate of Oversight and Compliance, Regulatory and Audit Matters Office, 9010 Defense Pentagon, Washington, DC 20301-9010.

Instructions: All submissions received must include the agency name and docket number for this Federal Register document. The general policy or comments and other submissions from members of the public is to make these submissions available for public viewing on the Internet at http://www.regulations.gov as they are received without change, including personal identifiers or contact information.

FOR FURTHER INFORMATION CONTACT: William A. DeCicco, Clerk of the Court, telephone (202) 761-1448.

Dated: October 7, 2015.
Aaron Siegel,
Alternate OSD Federal Liaison Officer, Department of Defense.

Rule 37(a):

Rule 37(a) currently reads:

(a) Printing. Except for records of trial and as otherwise provided by Rules 24(f) and 27(a)(4) or any order of the Court regarding the electronic filing of pleadings, all pleadings or other papers relative to a case shall be typewritten and double-spaced, printed on one side only on white unglazed paper, 8.5 by 11 inches in size, securely fastened in the top left corner. All printed matter must appear in monospaced typeface, e.g., Courier or Courier New, using 12-point type with no more than ten and ½ characters per inch. Margins must be at least 1 inch on all four sides. Page numbers may be placed in the margin but no text may appear in the margin.

The proposed changes to Rule 37(a) would read:

(a) Printing. Except for records of trial and as otherwise provided by Rule 24(f) or any order of the Court regarding the electronic filing of pleadings, all pleadings or other papers relative to a case shall be typewritten and double-spaced, printed on one side only on white unglazed paper, 8.5 by 11 inches in size, securely fastened in the top left corner. All printed matter must appear in proportional type, e.g., Times New Roman. The use of 14-point type is required. Margins must be at least 1 inch on all four sides. Page numbers may be placed in the margin but no text may appear in the margin.

Comment: The reference to Rule 27(a)(4) is omitted because that Rule was rescinded in 2012. Times New Roman is the font that is commonly used in appellate courts and it would be the default under the new Rule. The proposal to change from monospaced typeface to proportional typeface with 14-point type tracks Federal Rule of Appellate Procedure 32(a)(5) which requires the use of 14-point type or larger when proportional type is used.

[FR Doc. 2015-26010 Filed 10-13-15; 8:45 am]

BILLING CODE 5001-06-P